FEDERAL MARITIME COMMISSION

Notice of Agreements Filed

The Commission hereby gives notice of the filing of the following agreements under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 012174-002.

Title: Höegh/Liberty Middle East Space Charter Agreement.

Parties: Höegh Autoliners AS and Liberty Global Logistics LLC.

Filing Party: Brooke F. Shapiro, Esq: Winston & Strawn LLP, 200 Park Avenue, New York, NY 10166.

Synopsis: The amendment adds Japan, Korea, and China to the Agreement's geographic scope and updates the address for Höegh Autoliners AS.

Agreement No.: 012245-002.

Title: Eastern Car Liner Ltd.—RZ Carrier GMBH & Co. KG Space Charter Agreement.

Parties: Eastern Car Liner Ltd. and RZ Carrier GMBH & Co. KG.

Filing Party: Wayne R. Rohde, Esq.; Cozen O'Connor, 1200 Nineteenth Street NW., Washington, DC 20036.

Synopsis: The amendment deletes Rickmers-Line GMBH & Cie. KG as a party, replaces it with RZ Carrier GMBH & Co. KG, makes technical corrections, and restates the agreement.

Agreement No.: 012359-001.

Title: MOL/Volkswagen Konzernlogistik GmbH & Co. OHG Space Charter Agreement.

Parties: Mitsui O.S.K. Lines Ltd and Volkswagen Konzernlogistik GmbH & Co. OHG.

Filing Party: Eric. C. Jeffrey, Esq.; Nixon Peabody LLP, 799 9th Street NW., Suite 500, Washington, DC 20001.

Synopsis: The amendment expands the geographic scope of the Agreement to cover the trades between the United States and all foreign countries.

By Order of the Federal Maritime Commission.
Dated: August 17, 2017.
Rachel E. Dickon,
Assistant Secretary.

[FR Doc. 2017-17776 Filed 8-22-17; 8:45 am]

BILLING CODE 6731-AA-P